DEPARTMENT OF COMMERCE

National Oceanic and Atmospheric Administration

[RTID 0648-XC587]

Fisheries Off West Coast States; Pacific Coast Groundfish Fishery; Trawl Rationalization Program; 2023 Cost Recovery Fee Notice

AGENCY: National Marine Fisheries Service (NMFS), National Oceanic and Atmospheric Administration (NOAA), Commerce.

ACTION: Notice, 2023 cost recovery fee percentages and average mothership cooperative program pricing.

SUMMARY: This action provides participants in the Pacific Coast Groundfish Trawl Rationalization Program with the 2023 cost recovery fee percentages and the average mothership (MS) price per pound to be used in the catcher/processor (C/P) Co-op program to calculate the fee amount for the upcoming calendar year. For the 2023 calendar year, NMFS announces the following fee percentages by sector specific program: 3.0 percent for the Shorebased Individual Fishing Quota (IFQ) Program; 0.1 percent for the C/P Co-op Program; and 1.7 percent for the MS Co-op Program. For 2023, the MS pricing to be used as a proxy by the C/P Co-op Program is $0.10/pound (lb) for Pacific whiting.

DATES: Applicable January 1, 2023.

FOR FURTHER INFORMATION CONTACT: Christopher Biegel, (206) 247-8252, christopher.biegel@noaa.gov.

SUPPLEMENTARY INFORMATION: Section 304(d) of the Magnuson‐Stevens Fishery Conservation and Management Act (MSA) authorizes and requires NMFS to collect fees to recover the costs directly related to the management, data collection and analysis, and enforcement directly related to and in support of a limited access privilege program (LAPP) (16 U.S.C. 1854(d)(2)), also called “cost recovery.” Cost recovery fees recover the actual costs directly related to the management, data collection and analysis, and enforcement of the programs (MSA Section 303A(e), 16 U.S.C. 1853a(e)). Section 304(d) of the MSA mandates that cost recovery fees not exceed 3 percent of the annual ex-vessel value of fish harvested by a program subject to a cost recovery fee, and that the fee be collected either at the time of landing, filing of a landing report, or sale of such fish during a fishing season or in the last quarter of the calendar year in which the fish is harvested.

The Pacific Coast Groundfish Trawl Rationalization Program is a LAPP, implemented in 2011, and consists of three sector-specific programs: the Shorebased IFQ Program, the MS Co-op Program, and the C/P Co-op Program. In accordance with the MSA, and based on a recommended structure and methodology developed in coordination with the Pacific Fishery Management Council (Council), NMFS began collecting mandatory fees of up to 3 percent of the ex‐vessel value of groundfish from each program (Shorebased IFQ Program, MS Co-op Program, and C/P Co-op Program) in 2014. NMFS collects the fees to recover the incremental costs of management, data collection and analysis, and enforcement of the Groundfish Trawl Rationalization Program. Additional background can be found in the cost recovery proposed rule (78 FR 7371, February 1, 2013) and final rule (78 FR 75268, December 11, 2013). The details of cost recovery for the Groundfish Trawl Rationalization Program are in regulation at 50 CFR 660.115 (Trawl fishery—cost recovery program), § 660.140 (Shorebased IFQ Program), § 660.150 (MS Co-op Program), and § 660.160 (C/P Co-op Program).

By December 31 of each year, NMFS announces the next year's fee percentages and the applicable MS pricing for the C/P Co-op Program. To calculate the fee percentages, NMFS used the formula specified in regulation at § 660.115(b)(1), where the fee percentage by sector equals the lower of 3 percent or direct program costs (DPC) for that sector divided by total ex-vessel value (V) for that sector multiplied by 100 (Fee percentage = the lower of 3 percent or (DPC/V) × 100).

`DPC,' as defined in the regulations at § 660.115(b)(1)(i), are the actual incremental costs for the previous fiscal year directly related to the management, data collection and analysis, and enforcement of each program (Shorebased IFQ Program, MS Co-op Program, and C/P Co-op Program). Actual incremental costs means those net costs that would not have been incurred but for the implementation of the Groundfish Trawl Rationalization Program, including both increased costs for new requirements of the program and reduced costs resulting from any program efficiencies or adjustments to costs from previous years.

`V,' as specified at § 660.115(b)(1)(ii), is the total ex-vessel value, as defined at § 660.111, for each sector from the previous calendar year. To determine the ex-vessel value for the Shorebased IFQ Program, NMFS used the ex-vessel value for calendar year 2021 as reported in the Pacific Fisheries Information Network (PacFIN) from Shorebased IFQ electronic fish tickets as this was the most recent complete set of data. To determine the ex-vessel value for the MS Co-op Program and the C/P Co-op Program, NMFS used the retained catch estimates (weight) for each sector as reported in the North Pacific Observer Program database multiplied by the average price of Pacific whiting as reported by participants in the MS Co-op program for 2021.

The fee calculations for the 2023 fee percentages are described below.

IFQ Program:

• 3.5 percent = ($1,701,903.39/$48,344,359.00) × 100.

C/P Co-op Program:

• 0.1 percent = ($33,840.12/$22,901,112.30) × 100.

MS Co-op Program:

• 1.7 percent = ($128,758.92/$7,674,927.60) × 100.

However, the calculated fee percentage cannot exceed the statutory limit of 3 percent. The IFQ Program fee calculation (3.5 percent) exceeds this limit; therefore, the 2023 fee percentage for the IFQ Program is 3 percent. The final 2023 fee percentages are 3.0 percent for the IFQ Program, 0.1 percent for the C/P Co-op Program, and 1.7 percent for the MS Co-op Program.

MS Average Pricing

MS pricing is the average price per pound that the C/P Co-op Program will use to determine the fee amount due for that sector. The C/P sector value (V) is calculated by multiplying the retained catch estimates (weight) of Pacific whiting harvested by the vessel registered to a C/P-endorsed limited entry trawl permit by the MS pricing. NMFS has calculated the 2023 MS pricing to be used as a proxy by the CP Co-op Program as: $0.10/lb for Pacific whiting.

Cost recovery fees are submitted to NMFS by fish buyers via Pay.gov (https://www.pay.gov/). Fees are only accepted in Pay.gov by credit/debit card or bank transfers. Cash or checks cannot be accepted. Fish buyers registered with Pay.gov can login in the upper right-hand corner of the screen. Fish buyers not registered with Pay.gov can go to the cost recovery forms directly from the website below. The links to the Pay.gov forms for each program (IFQ, MS, or C/P) are listed below:

IFQ: https://www.pay.gov/public/form/start/58062865;

MS: https://www.pay.gov/public/form/start/58378422; and

C/P: https://www.pay.gov/public/form/start/58102817.

As stated in the preamble to the cost recovery proposed and final rules, in the spring of each year, NMFS will release an annual report documenting the details and data used for the fee percentage calculations. Annual reports are available at: https://www.fisheries.noaa.gov/west-coast/sustainable-fisheries/west-coast-groundfish-trawl-catch-share-program#cost-recovery.

Authority: 16 U.S.C. 1801 et seq., 16 U.S.C.773 et seq., and 16 U.S.C. 7001 et seq.

Dated: December 6, 2022.
Jennifer M. Wallace,
Acting Director, Office of Sustainable Fisheries, National Marine Fisheries Service.

[FR Doc. 2022-26923 Filed 12-9-22; 8:45 am]

BILLING CODE 3510-22-P